DEPARTMENT OF DEFENSE

Department of the Navy

Notice of Availability of Invention for Licensing; Government-Owned Invention

AGENCY: Department of the Navy, DOD.

ACTION: Notice.

SUMMARY: The invention listed below is assigned to the United States Government as represented by the Secretary of the Navy and is available for licensing by the Department of the Navy. U.S. Patent Application Serial No. 09/898,360 entitled “Video Converter Board,” Navy Case No. 83,093.

ADDRESSES: Requests for copies of the patent cited should be directed to the Naval Surface Warfare Center, Crane Division, Code OCF, building 64, 300 Highway 361, Crane, IN 47522-5001 and must include the Navy Case number.

FOR FURTHER INFORMATION CONTACT: Mr. Darrell Boggess, Intellectual Property Office, Naval Surface Warfare Center, Crane Division, Code OCF, Building 64, 300 Highway 361, Crane, IN 47522-5001, telephone (812) 854-1130.

(Authority: 35 U.S.C. 207, 37 CFR part 404)
Dated: August 16, 2001.
S.K. Melancon,
Paralegal Specialist, Office of the Judge Advocate General, Alternate Federal Register Liaison Officer.

[FR Doc. 01-21673 Filed 8-27-01; 8:45 am]

BILLING CODE 3810-FF-P